U.S.-CHINA ECONOMIC AND SECURITY REVIEW COMMISSION

Notice of Open Meeting To Prepare Report to Congress; Advisory Committee: U.S.-China Economic and Security Review Commission

ACTION: Notice of open meeting to prepare Report to Congress—August 1-2, 2007, Washington, DC.

SUMMARY: Notice is hereby given of a meeting of the U.S.-China Economic and Security Review Commission.

Name: Carolyn Bartholomew, Chairwoman of the U.S.-China Economic and Security Review Commission.

The Commission is mandated by Congress to investigate, assess, evaluate, and report to Congress annually on the U.S.-China economic and security relationship. The mandate specifically charges the Commission to prepare a report to the Congress “regarding the national security implications and impact of the bilateral trade and economic relationship between the United States and the People's Republic of China * * * [that] shall include a full analysis, along with conclusions and recommendations for legislative and administrative actions * * *.”

Purpose of Meeting: Pursuant to this mandate, the Commission will meet in Washington, DC on August 1 and 2, 2007, to consider drafts of material for its 2007 End-of-Year Report to Congress that have been prepared for its consideration by the Commission staff, and to make modifications to those drafts that Commission members believe are needed.

Topics to be Discussed: The Commissioners will be considering draft Report sections addressing the following topics:

• The United States-China trade and economic relationship, including the relationship's current status, significant changes during 2007, the control of China's economy by its government, and the effect of that control on the United States,

• China's Military Modernization,

• China's Energy and Environmental Policies and Activities, including the strategic impact of these policies and activities on the United States and the world and prospects for addressing the effects of China's energy consumption.

Date and Time: Wednesday, August 1, 2007 (9:30 a.m. to 3 p.m.) and Thursday, August 2, 2007 (9:30 a.m. to 4 p.m.), Eastern Daylight Time.

Place of Meeting: The meetings will occur in Conference Room 333 of the Hall of the States located at 444 North Capitol Street, NW., Washington, DC 20001. Public seating is limited, and will be available on a “first-come, first-served” basis. Advance reservations are not required.

Required Accessibility Statement: The entirety of these Commission editorial and drafting meetings will be open to the public. The Commission may recess the public editorial/drafting meetings to address administrative issues in closed session.

For Further Information About This Meeting, Contact: Kathy Michels, Associate Director, U.S.-China Economic and Security Review Commission, 444 North Capitol Street, NW., Suite 602, Washington, DC 20001; phone 202-624-1409; e-mail kmichels@uscc.gov.

Authority: Congress created the U.S.-China Economic and Security Review Commission in 2000 in the National Defense Authorization Act (Pub. L. 106-398), as amended by Division P of the Consolidated Appropriations Resolution, 2003 (Pub. L. 108-7), as amended by Pub. L. 109-108 (November 22, 2005).

Dated: July 25, 2007.
Kathleen J. Michels,
Associate Director, U.S.-China Economic and Security Review Commission.

[FR Doc. 07-3691 Filed 7-27-07; 8:45 am]

BILLING CODE 1137-00-M